COMMITTEE FOR PURCHASE FROM PEOPLE WHO ARE BLIND OR SEVERELY DISABLED

Procurement List; Additions and Deletion

AGENCY: Committee for Purchase From People Who Are Blind or Severely Disabled.

ACTION: Additions to and deletion from Procurement List.

SUMMARY: This action adds to the Procurement List products and services to be furnished by nonprofit agencies employing persons who are blind or have other severe disabilities, and deletes from the Procurement List products previously furnished by such agencies.

DATES: Effective Date: July 8, 2007.

ADDRESSES: Committee for Purchase From People Who Are Blind or Severely Disabled, Jefferson Plaza 2, Suite 10800, 1421 Jefferson Davis Highway, Arlington, VA 22202-3259.

FOR FURTHER INFORMATION OR TO SUBMIT COMMENTS CONTACT: Kimberly M. Zeich, Telephone: (703) 603-7740, Fax: (703) 603-0655, or e-mail CMTEFedReg@jwod.gov.

Additions

On April 6, and April 13, 2007, the Committee for Purchase From People Who Are Blind or Severely Disabled published notice (72 FR17094, 18626) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Product

Trunk Locker, Barracks

NSN: 8460-00-243-3234—Trunk Locker, Barracks, Wooden.

NPA: BSW, Inc., Butte, MT.

Contracting Activity: Defense Supply Center Philadelphia, Philadelphia, PA.

Coverage: C-List—Additional 25% of the government requirement for Defense Supply Center Philadelphia, Philadelphia, PA.

Services

Service Type/Location: Catering Service, Seattle Military Entrance Processing Station (MEPS), 4735 E. Marginal Way South, Seattle, WA.

NPA: Northwest Center, Seattle, WA.

Contracting Activity: ARMY-KNOX, U.S. Army Armor Center and Ft. Knox, Fort Knox, KY.

Service Type/Location: Custodial Services, Juneau SSC—Building #302, 9341 Glacier Highway, Juneau, AK.

NPA: REACH, Inc., Juneau, AK.

Contracting Activity: Department of Transportation, Federal Aviation Administration—ALASKA, Anchorage, AK.

Service Type/Location: Custodial Services, USDA, Farm Service Agency (Delaware County Office), 557 Sunbury Road, Suite C, Delaware, OH.

NPA: Alpha Group of Delaware, Inc., Delaware, OH.

Contracting Activity: U.S. Department of Agriculture, Farm Service Agency Acquisition Management Division, Kansas City, MO.

Deletion

On April 13, 2007, the Committee for Purchase From People Who Are Blind or Severely Disabled published notice (72 FR18627) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following product is deleted from the Procurement List:

Products

Inkjet Cartridge

NSN: 7510-01-544-0834—Use in Canon printers BJC-30/50/55/70/80/85/85W.

NPA: Alabama Industries for the Blind, Talladega, AL.

Contracting Activity: General Service Administration, Office Supplies & Paper Products Acquisition Ctr, New York, NY.

Kimberly M. Zeich,
Director, Program Operations.

[FR Doc. E7-11136 Filed 6-7-07; 8:45 am]

BILLING CODE 6353-01-P